OFFICE OF SCIENCE AND TECHNOLOGY POLICY

Request for Public Comment on the Draft National Nanotechnology Initiative Strategy for Nanotechnology-Related Environmental, Health, and Safety Research

AGENCY: White House Office of Science and Technology Policy.

ACTION: Notice: Request for public comment.

SUMMARY: With this notice, the White House Office of Science and Technology Policy and the Nanoscale Science, Engineering, and Technology Subcommittee of the National Science and Technology Council request comments from the public regarding the draft National Nanotechnology Initiative (NNI) Strategy for Nanotechnology-Related Environmental, Health, and Safety Research (hereafter referred to as “draft NNI EHS strategy”). The draft NNI EHS strategy is posted at http://strategy.nano.gov. Comments of approximately one page or less in length (4,000 characters) are requested. This request will be active through January 21, 11:59 pm EST.

DATES: Comments were previously invited through 11:59 p.m. EST on January 6, 2011. This notice extends the period for public comment through January 21, 11:59 pm EST.

ADDRESSES: Respondents are encouraged to register online at the NNI Strategy Portal at http://strategy.nano.gov to post their comments (4,000 characters or less) as a response to the request for public comment. Alternatively, comments of one page in length or less may be submitted via e-mail to: nnistrategy@ostp.gov. Any information you provide to us may be posted online. Therefore, do not send any information that might be considered proprietary, personal, sensitive, or confidential.

Overview: The National Nanotechnology Initiative Strategy for Nanotechnology-Related Environmental, Health, and Safety Research or “NNI EHS Strategy” helps to facilitate achievement of the National Nanotechnology Initiative vision by laying out guidance for agency leaders, program managers, and the research community regarding planning and implementation of nanotechnology EHS R&D investments and activities.

The NNI is a U.S. Government R&D program of 25 agencies working together toward the common challenging vision of a future in which the ability to understand and control matter at the nanoscale leads to a revolution in technology and industry that benefits society. The combined, coordinated efforts of these agencies have accelerated discovery, development, and deployment of nanotechnology towards agency missions and the broader national interest. Established in 2001, the NNI involves nanotechnology-related activities by the 25 member agencies, 15 of which have requested budgets for nanotechnology R&D for Fiscal Year (FY) 2011.

The NNI is managed within the framework of the National Science and Technology Council (NSTC), the Cabinet-level council that coordinates science and technology across the Federal government and interfaces with other sectors. The Nanoscale Science, Engineering, and Technology (NSET) Subcommittee of the NSTC coordinates planning, budgeting, program implementation, and review of the NNI. The NSET Subcommittee is composed of senior representatives from agencies participating in the NNI (http://www.nano.gov). The NSET Subcommittee and its Nanotechnology Environmental and Health Implications (NEHI) Working Group provide leadership in establishing the NNI environmental, health, and safety research agenda and in communicating data and information related to the environmental and health aspects of nanotechnology between NNI agencies and with the public. NNI activities support the development of the new tools and methods required for the research that will enable risk analysis and assist in regulatory decision-making.

The NSET Subcommittee has solicited multiple streams of input to inform the development of this latest NNI EHS Strategy. Independent reviews of the NNI by the President's Council of Advisors on Science and Technology and the National Research Council of the National Academies have made specific recommendations for improving the NNI EHS strategy. A series of four NNI workshops took place in 2009-2010 to solicit input for this strategy: 1. Human & Environmental Exposure Assessment of Nanomaterials (details at http://www.nano.gov/html/meetings/exposure/), 2. Nanomaterials and the Environment & Instrumentation, Metrology, and Analytical Methods (details at http://www.nano.gov/html/meetings/environment/), 3. Nanomaterials and Human Health & Instrumentation, Metrology, and Analytical Methods (details at http://www.nano.gov/html/meetings/humanhealth/), and 4. Capstone: Risk Management Methods & Ethical, Legal, and Societal Implications of Nanotechnology (details at http://www.nano.gov/html/meetings/capstone/). Additional input has come from the NNI Strategic Planning Stakeholders Workshop (details at http://www.nano.gov/html/meetings/NNISPWorkshop/) as well as in responses to a Request for Information published in the Federal Register on July 6, 2010, and comments posted online in response to challenge questions from July 13-August 15, 2010, at the NNI Strategy Portal (http://strategy.nano.gov).

The draft NNI EHS Strategy complements the 2010 NNI Strategic Plan by setting forth the NNI strategy for nanotechnology-related environmental, health, and safety (EHS) research. It describes the NNI vision and goals for Federal EHS research and presents the current NNI EHS research portfolio. The EHS strategy includes a description of the NNI EHS research investment by research need, the state of the science, and an analysis of the gaps and barriers to achieving that research as part of the NNI's adaptive management of this strategy. This strategy updates and replaces the NNI EHS Strategy of February 2008. The NNI EHS Strategy aims to ensure the responsible development of nanotechnology by providing guidance to the Federal agencies that produce the scientific information for risk management, regulatory decision-making, product use, research planning, and public outreach. The core research areas providing this critical information are measurement, human exposure assessment, human health, and the environment in order to inform risk assessment and risk management.

Your comments on this draft of the plan must be received by 11:59 p.m. EST on January 21, 2011. Please reference page and line numbers as appropriate, and keep your responses to 4,000 characters or less. You may also e-mail your responses, no more than one page in length, to nnistrategy@ostp.gov. Responses to this notice are not offers and cannot be accepted by the Federal government to form a binding contract or issue a grant. Information obtained as a result of this notice may be used by the Federal government for program planning on a non-attribution basis. Any information you provide to us may be posted online. Therefore, do not send any information that might be considered proprietary, personal, sensitive, or confidential.

FOR FURTHER INFORMATION CONTACT: Any questions about the content of this notice should be sent to NNIStrategy@ostp.gov. Questions and responses may also be sent by mail (please allow additional time for processing) to the address: Office of Science and Technology Policy, ATTN: NNI EHS Strategy Comments, Executive Office of the President, 725 17th Street Room 5228, Washington, DC 20502. Phone: (202) 456-7116, Fax: (202) 456-6021.

Ted Wackler,
Deputy Chief of Staff.

[FR Doc. 2011-555 Filed 1-12-11; 8:45 am]

BILLING CODE 3170-W0-P